ENVIRONMENTAL PROTECTION AGENCY

[EPA-R05-OAR-2017-0147; FRL-9978-66—Region 5]

Adequacy Status of the Indiana Portion of the Chicago-Naperville, IL-IN-WI Area for the Submitted 2008 Ozone Standard Fifteen Percent Rate of Progress Plan for Transportation Conformity Purposes

AGENCY: Environmental Protection Agency (EPA).

ACTION: Notice of finding of adequacy.

SUMMARY: In this notice, the EPA is notifying the public that we find the motor vehicle emissions budgets (MVEBs) for volatile organic compounds (VOCs) and oxides of nitrogen (NOX) in the 15% Rate of Progress Plan for the Indiana portion of the Chicago-Naperville, IL-IN-WI 2008 ozone standard nonattainment area (Lake and Porter Counties) adequate for use in transportation conformity determinations. On February 28, 2017, the Indiana Department of Environmental Management (IDEM) submitted a 2008 ozone standard 15% Rate of Progress Plan for Lake and Porter Counties, which included the MVEBs for 2017. IDEM provided further clarification to the Plan on January 9, 2018. As a result of our finding, this area must use these MVEBs from the submitted 15% Rate of Progress Plan for future transportation conformity determinations.

DATES: This finding is applicable June 14, 2018.

FOR FURTHER INFORMATION CONTACT: Anthony Maietta, Environmental Protection Specialist, Control Strategies Section (AR-18J), Air Programs Branch, Air and Radiation Division, United States Environmental Protection Agency, Region 5, 77 West Jackson Boulevard, Chicago, Illinois 60604, (312) 353-8777, maietta.anthony@epa.gov.

SUPPLEMENTARY INFORMATION: Throughout this document, whenever “we”, “us” or “our” is used, we mean EPA.

Background

On February 28, 2017, IDEM submitted to EPA a 15% Rate of Progress Plan for the Indiana portion of the 2008 8-hour ozone Chicago-Naperville, IL-IN-WI nonattainment area, and provided further clarification to the Plan on January 9, 2018. This plan included MVEBs for VOC and NOX for the year 2017. On March 8, 2018, EPA sent a letter to IDEM stating that the MVEBs are adequate for transportation conformity purposes. Receipt of these MVEBs was announced on EPA's transportation conformity website: https://www.epa.gov/state-and-local-transportation/adequacy-review-state-implementation-plan-sip-submissions-conformity. The finding and other relevant information are also available on EPA's transportation conformity website.

The 2017 MVEBs for Lake and Porter Counties are 16.68 tons per day (tpd) of NOX and 6.85 tpd of VOCs.

Transportation conformity is required by section 176(c) of the Clean Air Act. EPA's conformity rule requires that transportation plans, programs, and projects conform to state air quality implementation plans and establishes the criteria and procedures for determining whether or not they do conform. Conformity to a State Implementation Plan (SIP) means that transportation activities will not produce new air quality violations, worsen existing violations, or delay timely attainment of the national ambient air quality standards.

The criteria by which we determine whether a SIP's MVEBs are adequate for transportation conformity purposes are outlined in 40 CFR 93.118(e)(4). Please note that an adequacy review is separate from EPA's completeness review, and is also a separate action from EPA's evaluation of and decision whether to approve a proposed SIP revision.

Authority: 42 U.S.C. 7401-7671 q.

Dated: May 16, 2018.
Cathy Stepp,
Regional Administrator, Region 5.

[FR Doc. 2018-11585 Filed 5-29-18; 8:45 am]

BILLING CODE 6560-50-P